DEPARTMENT OF THE INTERIOR

Bureau of Land Management

[ID-200-1120-PH]

Notice of February Resource Advisory Council Meeting To Be Held in Twin Falls District, ID

AGENCY: Bureau of Land Management, Interior.

SUMMARY: This notice announces the intent to hold a Resource Advisory Council (RAC) meeting in the Twin Falls District of Idaho on Tuesday, February 7, 2006. The meeting will be held at the Red Lion Canyon Springs Hotel, 1357 Blue Lakes Boulevard, in Twin Falls, Idaho.

SUPPLEMENTARY INFORMATION: The Twin Falls District Resource Advisory Council consists of the standard fifteen members residing throughout south central Idaho. Meeting agenda items will include updates on sub-committee efforts, Cotterell Mountain Wind Power Plant EIS status, SEMPRA coal plant proposal, Recreation RAC status and pending decisions and more.

FOR FURTHER INFORMATION CONTACT: Sky Buffat, Twin Falls District, Idaho, 2536 Kimberly Road, Twin Falls, Idaho 83301, (208)735-2068.

Dated: January 4, 2006.
Bill Baker,
Twin Falls District Associate Manager.

[FR Doc. E6-144 Filed 1-10-06; 8:45 am]

BILLING CODE 4310-GG-P